DEPARTMENT OF LABOR

Office of the Secretary

Submission for OMB Review: Comment Request

October 26, 2007.

The Department of Labor (DOL) hereby announces the submission the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: Katherine Astrich, OMB Desk Officer for the Employment and Training Administration (ETA), Office of Management and Budget, Room 10235, Washington, DC 20503, Telephone: 202-395-7316/Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension without change of a currently approved collection.

Title: Non-monetary Determination Activity Report.

OMB Control Number: 1205-0150.

Form Number: ETA-207.

Affected Public: State Governments.

Estimated Number of Respondents: 53.

Estimated Total Annual Burden Hours: 896.

Estimated Total Annual Costs Burden: $0.

Description: Claimants for unemployment insurance may be denied their benefits for reasons associated with their separation from employment, such as voluntary quit, or questions of continuing eligibility, such as refusal of suitable work. This data is a byproduct of the normal program operations. The ETA 207 report contains state data on the number and types of issues that arise and on the denials of benefits that may result.

These data are used by the Office of Workforce Security (OWS) to determine workload counts, to enable the OWS to evaluate the adequacy and effectiveness of adjudication determination procedures, and to evaluate the impact of state and Federal legislation with respect to disqualifications. The data are also used for general statistical purposes. No similar data are available from other sources.

Agency: Employment and Training Administration.

Type of Review: Revision of a currently approved collection.

Title: Resource Justification Model (RJM).

OMB Number: 1205-0430.

Form Number: RJM Version 2.4 and ETA Handbook 410.

Affected Public: State Governments.

Estimated Number of Respondents: 53.

Estimated Total Annual Burden Hours: 6,519.

Estimated Total Annual Costs Burden: $0.

Description: The information collected by the RJM program is for budget formulation and grant allocation to the states for the unemployment insurance program.

Darrin A. King,
Acting Departmental Clearance Officer.

[FR Doc. E7-21451 Filed 10-30-07; 8:45 am]

BILLING CODE 4510-FW-P